DEPARTMENT OF AGRICULTURE

Submission for OMB Review; Comment Request

February 15, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 23, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Self Certification Medical Statement.

OMB Control Number: 0579-0196.

Summary of Collection: The United States Department of Agriculture is responsible for ensuring consumers that food and farm products are moved from producer to consumer in the most efficient, dependable, economical, and equitable system possible. Each year, the United States Department of Agriculture's Marketing and Regulatory Programs (MRP) agency hires individuals for commodity grading and inspection positions to ensure this process is efficient and effective. These positions often involve arduous conditions and require direct contact with meat, dairy, fresh or processed fruits and vegetables, and poultry intended for human consumption; and cotton and tobacco products intended for consumer use. 5 CFR part 339 authorizes an agency to request medical information from an applicant that may assist management with employment decisions concerning covered positions that have specific medical or physical fitness requirements. APHIS will collect the applicant's medical information using MRP Form 5 (Self-Certification Medical Statement).

Need and Use of the Information: The information collected from prospective employees assists MRP officials, administrative personnel, and servicing Human Resources Offices in determining an applicant's physical fitness and suitability for employment in positions with approved medical standards and physical requirements. If the information was not collected, APHIS would not be able to accurately determine the applicant's fitness to safely perform the duties of the covered positions.

Description of Respondents: Individuals or households.

Number of Respondents: 606.

Frequency of Responses: Reporting: On occasion.

Total Burden Hours: 102.

Ruth Brown,
Departmental Information Collection Clearance Officer.

[FR Doc. 2018-03522 Filed 2-20-18; 8:45 am]

BILLING CODE 3410-34-P